DEPARTMENT OF ENERGY

Federal Energy Regulatory Commission

[Docket No. CP20-55-000]

Port Arthur LNG Phase II, LLC; PALNG Common Facilities Company, LLC; Notice To Prepare a Supplemental Environmental Assessment for the Proposed Port Arthur LNG Expansion Project and Schedule for Environmental Review

The staff of the Federal Energy Regulatory Commission (FERC or Commission) will prepare a supplemental environmental assessment (EA) for the Port Arthur LNG Expansion Project (Project) in Jefferson County, Texas, proposed by Port Arthur LNG Phase II, LLC and PALNG Common Facilities Company, LLC (collectively referred to as Port Arthur LNG). The supplemental EA will tier off the Commission staff's January 15, 2021 EA and its findings and conclusions for the Project, and respond to comments filed on the EA.¹ The supplemental EA will assist the Commission in its consideration of the Project's impacts on air quality, environmental justice communities, and climate change, and will inform the Commission in its review of the Project under section 3 of the Natural Gas Act.² The schedule for preparation of the supplemental EA is discussed in the “Schedule for Environmental Review” section of this notice.

¹ The EA for the Project is filed in Docket No. CP20-55-000 under Accession No. 20210115-3014.

² 15 U.S.C. 717b(a). Section 3 of the Natural Gas Act provides that an application shall be approved unless the proposal “will not be consistent with the public interest,” and approval may be subject to “such terms and conditions as the Commission may find necessary or appropriate.”

The National Environmental Policy Act Process

The production of the supplemental EA is part of the Commission's overall National Environmental Policy Act review process. Commission staff will independently analyze the proposed Project and prepare a supplemental EA, which will be issued for public comment. The supplemental EA will be available in electronic format in the public record through eLibrary ³ and the Commission's natural gas environmental documents web page (https://www.ferc.gov/industries-data/natural-gas/environment/environmental-documents).

³ For instructions on connecting to eLibrary, refer to the “Additional Information” section of this notice.

The U.S. Environmental Protection Agency is a cooperating agency in the preparation of the supplemental EA.

Schedule for Environmental Review

This notice identifies the Commission staff's intention to prepare a supplemental EA for the Project and the planned schedule for completion of the environmental review.

Issuance of the Supplemental EA—April 28, 2023

90-day Federal Authorization Decision Deadline ⁴—July 27, 2023

⁴ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the EA, an additional notice will be provided so that the relevant agencies are kept informed of the Project's progress.

Environmental Mailing List

This notice is being sent to the Commission's current environmental mailing list for the Project which includes: federal, state, and local government representatives and agencies; Native American Tribes; elected officials; environmental and public interest groups; other interested parties. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project.

If you need to make changes to your name/address, or if you would like to remove your name from the mailing list, please complete one of the following steps:

(1) Send an email to GasProjectAddressChange@ferc.gov stating your request. You must include the docket number CP20-55-000 in your request. If you are requesting a change to your address, please be sure to include your name and the correct address. If you are requesting to delete your address from the mailing list, please include your name and address as it appeared on this notice. This email address is unable to accept comments.

OR

(2) Return the attached “Mailing List Update Form” (appendix 1).

Additional Information

In order to receive notification of the issuance of the supplemental EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: January 27, 2023.
Kimberly D. Bose,
Secretary.

[FR Doc. 2023-02256 Filed 2-2-23; 8:45 am]

BILLING CODE 6717-01-P